PEACE CORPS

22 CFR Part 304

RIN 0420-AA23

Claims Against the Government Under the Federal Tort Claims Act

AGENCY: Peace Corps.

ACTION: Proposed rule.

SUMMARY: The Peace Corps proposes to revise its regulation concerning claims filed under the Federal Tort Claims Act, to make the regulation internally consistent with another provision stating that the Chief Financial Officer has authority to approve claims for amounts under $5000.

DATES: Comments must be received by August 8, 2008.

ADDRESSES: You may submit comments by e-mail to sglasow@peacecorps.gov. Include RIN 0420-AA23 in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: On March 16, 2007, Peace Corps revised section 22 CFR § 304.7 to provide that the Chief Financial Officer “has the authority to adjust, determine, compromise, and settle claims for less than $5,000.” This proposed revision would rectify an omission in § 304.10, which does not currently refer to the Chief Financial Officer's authority for deciding claims worth less than $5,000.

On April 22, 2008, the Peace Corps published a direct final rule that revised part 304.10. The Peace Corps received one comment within the comment period. As a result, the Peace Corps is republishing this revision to the regulation as a proposed rule.

Section-by-Section Analysis

Section 304.10

Subpart (b) is amended to reflect the fact that the Chief Financial Officer will make final determinations for claims worth less than $5,000.

Executive Order 12866

This regulation has been determined to be non-significant within the meaning of Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by state, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects in 22 CFR Part 304

Claims.

Accordingly, Peace Corps proposes to amend 22 CFR part 304 as follows:

PART 304—CLAIMS AGAINST THE GOVERNMENT UNDER THE FEDERAL TORT CLAIMS ACT

1. The authority citation for part 304 continues to read as follows:

Authority: 28 U.S.C. 2672; 22 U.S.C. 2503(b); E.O. 12137, as amended.

2. Amend § 304.10 to revise paragraph (b) to read as follows:

§ 304.10 Review of claim.

* * * * *

(b) After legal review and recommendation by the General Counsel, the Director of the Peace Corps will make a written determination on the claim, unless the claim is worth less than $5,000, in which case the Chief Financial Officer will make the written determination.

Dated: July 1, 2008.
Tyler Posey,
General Counsel.

[FR Doc. E8-15583 Filed 7-8-08; 8:45 am]

BILLING CODE 6015-01-P